DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: National Marine Sanctuary Permits.

Form Number(s): None.

OMB Approval Number: 0648-0141.

Type of Request: Regular submission.

Burden Hours: 1,436.

Number of Respondents: 424.

Average Hours Per Response: Baitfish permits, permit amendments, and certification, 30 minutes; general permits, 1 hour and 30 minutes; special use permits, 8 hours; historical resource permits, 13 hours; voluntary registration, 15 minutes; Tortugas access, 5 minutes; and appeals, 24 hours.

Needs and Uses: National Marine Sanctuary regulations list specific activities that are prohibited in the sanctuaries. These otherwise prohibited activities are permissible if a permit is issued by the Office of National Marine Sanctuaries (ONMS). Any person desiring permits must submit applications, and persons obtaining permits must submit reports on the activity conducted under the permit. The information is needed by the ONMS to protect and manage the sanctuaries. This renewal also includes the merger of OMB Control No. 0648-0418, Tortugas Access Permits, into this information collection.

Affected Public: Not-for-profit institutions; business or other for-profit organizations.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 3, 2008.
Gwellnar Banks,
Management Analyst, Office of the Chief Information Officer.

[FR Doc. E8-12701 Filed 6-5-08; 8:45 am]

BILLING CODE 3510-22-P